DEPARTMENT OF TRANSPORTATION

Federal Railroad Administration

[Docket Number FRA-2011-0026]

Notification of Application for Approval of a Railroad Safety Program Plan

In accordance with part 236 of Title 49 Code of Federal Regulations and 49 U.S.C. 20502(a), this document provides the public notice that by a letter dated October 15, 2013, the Long Island Rail Road petitioned the Federal Railroad Administration (FRA) for approval of a Railroad Safety Program Plan (RSPP) revision dated September 18, 2013. FRA assigned the petition Docket Number FRA-2011-0026.

The petition, the RSPP, and any related documents have been placed in Docket Number FRA-2011-0026 and are available for public inspection. FRA is not accepting comments on the RSPP revision.

A copy of the petition, as well as any written communications concerning the petition, is available for review and download online at http://www.regulations.gov and in person at the U.S. Department of Transportation's (DOT) Docket Operations Facility, 1200 New Jersey Avenue SE., W12-140, Washington, DC 20590. The Docket Operations Facility is open from 9 a.m. to 5 p.m., Monday through Friday, except Federal Holidays.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Associate Administrator for Railroad Safety, Chief Safety Officer.

[FR Doc. 2013-28690 Filed 11-27-13; 8:45 am]

BILLING CODE 4910-06-P